DEPARTMENT OF COMMERCE

Bureau of the Census

15 CFR Part 70

[Docket Number 080703821-8824-01]

RIN 0607-AA47

Cutoff Dates for Recognition of Boundary Changes for the 2010 Census

AGENCY: Bureau of the Census, Department of Commerce.

ACTION: Final Rule.

SUMMARY: The Bureau of the Census (Census Bureau) is amending its regulations to establish cutoff dates for the recognition of boundary changes for the 2010 Census. This amendment is necessary, as the existing cutoff dates are out of date. Upon effectiveness of this rule, the Census Bureau will recognize only those boundaries legally in effect on January 1, 2010, that have been reported officially to the Census Bureau no later than March 1, 2010.

DATES: This rule is effective on August 11, 2008.

FOR FURTHER INFORMATION CONTACT: Daniel H. Weinberg, Acting Chief, Geography Division, U.S. Census Bureau, Washington, DC 20233-7400, telephone (301) 763-2131, or e-mail geo.bas@census.gov.

SUPPLEMENTARY INFORMATION: The Census Bureau is amending 15 CFR part 70 to establish cutoff dates for recognition of boundary changes made through the Boundary and Annexation Survey (BAS) for the 2010 Census, the American Community Survey (ACS), and the Population Estimates Program. The cutoff dates were last established for Census 2000 on March 3, 1998 (63 FR 10303). Those cutoff dates are out of date; therefore, the Census Bureau amends its regulations to update the cutoff dates for the 2010 Census. For the 2010 Census, the Census Bureau will recognize only those boundaries legally in effect on January 1, 2010, that have been reported officially to the Census Bureau no later than March 1, 2010. To implement this change, the Census Bureau changes the name of the census from “Census 2000” to “2010 Census” and the reference year from 2000 to 2010 throughout its regulations.

The reporting deadline for the BAS is usually April 1 of each year. However, to ensure the timely and official reporting of legal boundary changes for the 2010 Census, and subsequent data dissemination and tabulation activities, we establish the above-referenced deadlines. The BAS 2009 reporting deadline will be March 1, 2009, and the BAS 2010 reporting deadline will be March 1, 2010.

In addition, the Census Bureau amends § 70.2 to remove and update the reference publication that provides information on the definition of “municipality” and “county subdivision.” The reference to the 1990 Census of Population, Volume 1, General Population Characteristics, 1990 CP-1-1, Appendix A, is replaced with a reference to the Census 2000 Geographic Terms and Concepts, Appendix A.

Rulemaking Requirements

Administrative Procedure Act

The Census Bureau finds good cause under 5 U.S.C. 553(b)(B) to waive notice and comment requirements of the Administrative Procedure Act because it is unnecessary and contrary to the public interest. This amendment is necessary to establish the cutoff date for recognition of boundary changes for the 2010 Census and to update an obsolete citation to a reference publication. Upon implementation of this final rule for the 2010 Census, the Census Bureau will recognize only those boundaries legally in effect on January 1, 2010, that have been reported officially to the Census Bureau no later than March 1, 2010. This change does not impact the rights or obligations of any entity. This change merely establishes the last date on which the Census Bureau will accept changes to the legal boundaries used by the Census Bureau to conduct the data tabulation for the decennial census. In addition, this rule updates the reference that provides information on the definition of “municipality” and “county subdivision.”

The Census Bureau finds good cause under 5 U.S.C. 553(d) to waive the 30-day delay in effectiveness. As stated above, this amendment is necessary to establish the cutoff date for recognition of boundary changes for the decennial census and to update an obsolete citation to a reference publication. This change does not impact the rights or obligations of any entity. This change merely establishes the last date on which the Census Bureau will accept changes to the legal boundaries used by the Census Bureau to conduct the data tabulation for the decennial census, and to update a reference publication that provides information on the definition of “municipality” and “county subdivision.” Therefore, the Census Bureau makes this final rule effective immediately upon publication.

Regulatory Flexibility Act

Because a notice of proposed rulemaking and an opportunity for comment are not required by 5 U.S.C. 553 or any other law, a Regulatory Flexibility Analysis is not required and has not been prepared (5 U.S.C. 603(a)).

Executive Orders

This rule has been determined to be not significant for purposes of Executive Order 12866. This rule does not contain policies with federalism implications, as that term is defined in Executive Order 13132.

Paperwork Reduction Act

This final rule does not represent a collection of information subject to the requirements of the Paperwork Reduction Act, 44 U.S.C., Chapter 35.

List of Subjects in 15 CFR Part 70

Administrative practice and procedure, Census data, Population census, Statistics.

For the reasons stated in the preamble, the Census Bureau is amending 15 CFR Part 70 as follows:

PART 70—[AMENDED]

1. The authority for Part 70 continues to read as follows:

Authority: 13 U.S.C. 4 and Department of Commerce Organization Order 35-2A (40 FR 42765).

2. In 15 CFR Part 70, remove the words “Census 2000” wherever they appear and add, in their place, the words “2010 Census.”

3. In 15 CFR part 70, remove the date “2000” wherever it appears and add, in its place, the date “2010.”

§ 70.2 [Amended]

4. In § 70.2 remove the sentence “A more complete description appears on pages A-6 and A-11 of 1990 Census of Population, Volume 1, General Population Characteristics, 1990 CP-1-1, Appendix A,” and add, in its place, the sentence “A more complete description appears on pages A-12 and A-13 of Appendix A, Census 2000 Geographic Terms and Concepts.”

Dated: August 5, 2008.
Steve H. Murdock,
Director, Bureau of the Census.

[FR Doc. E8-18305 Filed 8-8-08; 8:45 am]

BILLING CODE 3510-07-P